FEDERAL COMMUNICATIONS COMMISSION

47 CFR Part 73

[DA 03-2090; MB Docket No. 03-142; RM-10539]

Radio Broadcasting Services; Glen Arbor, MI

AGENCY: Federal Communications Commission.

ACTION: Proposed rule.

SUMMARY: This document requests comments on a petition for rulemaking filed by WKJF Radio, Inc., licensee of Station WKJF-FM, Cadillac, Michigan, proposing the deletion of Channel 227A at Glen Arbor, Michigan. The removal of Channel 227A at Glen Arbor will allow Station WKJF-FM to relocate its transmitter. Any party filing an expression of interest in retention of Channel 227A at Glen Arbor will be required to provide evidence of site availability demonstrating that it has obtained assurances from the owner of its proposed site that it will be able to buy or lease the location specified in comments. Failure to provide the requested information will result in a rejection of the expression of interest.

DATES: Comments must be filed on or before August 22, 2003, and reply comments on or before September 8, 2003.

ADDRESSES: Secretary, Federal Communications Commission, 445 Twelfth Street, SW., Washington, DC 20554. In addition to filing comments with the FCC, interested parties should serve the petitioner's counsel as follows: Dennis J. Kelly, Law Office of Dennis J. Kelly, Post Office Box 41177, Washington, DC 20018.

FOR FURTHER INFORMATION CONTACT: Kathleen Scheuerle, Media Bureau, (202) 418-2180.

SUPPLEMENTARY INFORMATION: This is a synopsis of the Commission's Notice of Proposed Rule Making, MB Docket No. 03-142, adopted June 30, 2003, and released July 1, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Michigan, is amended by removing Channel 227A at Glen Arbor.

Federal Communications Commission.
John A. Karousos,
Assistant Chief, Audio Division, Media Bureau.

[FR Doc. 03-18249 Filed 7-17-03; 8:45 am]

BILLING CODE 6712-01-P